DEPARTMENT OF DEFENSE

Defense Logistics Agency

Privacy Act of 1974; Systems of Records

AGENCY: Defense Logistics Agency, DOD.

ACTION: Notice to Amend Systems of Records.

SUMMARY: The Defense Logistics Agency proposes to amend a system of records notice in its inventory of record systems subject to the Privacy Act of 1974 (5 U.S.C. 552a), as amended. In addition, DLA is making a global administrative change to all its Privacy Act systems of records notices.

DATES: This action will be effective without further notice on November 13, 2000 unless comments are received that would result in a contrary determination.

ADDRESSES: Send comments to the Privacy Act Officer, Headquarters, Defense Logistics Agency, ATTN: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The Department of the Navy proposes to amend a system of records notice in its inventory of record systems subject to the Privacy Act of 1974 (5 U.S.C. 552a), as amended. The amendment is not within the purview of subsection (r) of the Privacy Act of 1974 (5 U.S.C. 552a), as amended, which requires the submission of a new or altered system report.

Dated: October 5, 2000.
L.M. Bynum,
Alternate OSD Federal Register Liaison Officer, Department of Defense.

DLA is revising the current entry called “Contesting record procedures:” for all its Privacy Act systems of records to read as follows:

“Contesting record procedures.” The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

* * * * *

S900.10 CA

SYSTEM NAME:

Personnel Roster/Locator Files (September 21, 1999, 64 FR 51110).

Changes:

* * * * *

CATEGORIES OF RECORDS IN THE SYSTEM:

Add to entry “day and month of birth.”

* * * * *

S900.10 CA

SYSTEM NAME:

Personnel Roster/Locator Files.

SYSTEM LOCATION:

Headquarters, Defense Logistics Agency, 8725 John J. Kingman Road, Suite 2533, Fort Belvoir, VA 22060-6221, and the DLA Primary Level Field Activities (PLFAs). Official mailing addresses are published as an appendix to DLA's compilation of systems of records notices.

CATEGORIES OF INDIVIDUALS COVERED BY THE SYSTEM:

Current civilian employees, military personnel, and a select number of former employees of the DLA activity where records are maintained.

CATEGORIES OF RECORDS IN THE SYSTEM:

Records include name, Social Security Number, organizational assignment, home address and telephone number, grade/rank, position title and job series, day and month of birth, and spouse or next-of-kin name, address, and telephone numbers.

Security offices and police force records may also contain emergency medical and disability data, including information on special equipment or devices the individual requires, name and telephone number of medical practitioner, and medical alert data.

AUTHORITY FOR MAINTENANCE OF THE SYSTEM:

5 U.S.C. 301, Departmental Regulations; 10 U.S.C. 136, Under Secretary of Defense for Personnel and Readiness; 10 U.S.C. Chapter 31 (Personnel); and E.O. 9397 (SSN).

PURPOSE(S):

To notify DLA personnel of the arrival of visitors, to plan social and honorary recognition functions, to recall personnel to duty station when required, for use in emergency notification, and to perform relevant functions/requirements/actions consistent with managerial functions.

Medical and disability data is used by security and police officers to identify and locate individuals during medical emergencies, facility evacuations, and similar threat situations.

Routine uses of records maintained in the system, including categories of users and the purposes of such uses: In addition to the disclosures generally permitted under 5 U.S.C. 552a(b) of the Privacy Act, these records or information contained therein may specifically be disclosed outside the DoD as a routine use pursuant to 5 U.S.C. 552a(b)(3) as follows:

Security and police officers may relay medical and disability data to emergency medical treatment personnel, local fire fighters, and similar groups responding to calls for emergency assistance.

The DoD ‘Blanket Routine Uses’ set forth at the beginning of DLA's compilation of systems of records notices apply to this system.

POLICIES AND PRACTICES FOR STORING, RETRIEVING, ACCESSING, RETAINING, AND DISPOSING OF RECORDS IN THE SYSTEM:

STORAGE:

Records are maintained in paper and electronic form.

RETRIEVABILITY:

Retrieved by name, Social Security Number, organization, or grade/rank.

SAFEGUARDS:

Records are maintained in areas accessible only to DLA personnel who must use the records to perform their duties. The computer files are password protected with access restricted to authorize users. Records are secured in locked or guarded buildings, locked offices, or locked cabinets during nonduty hours.

RETENTION AND DISPOSAL:

Records are destroyed upon termination/departure of DLA personnel or when no longer needed for notification of official or social Agency functions.

SYSTEM MANAGER(S) AND ADDRESS:

Heads of HQ DLA principal staff elements and Heads of DLA field activities which maintain locator/roster files. Official mailing addresses are published as an appendix to DLA's compilation of systems of records notices.

NOTIFICATION PROCEDURE:

Individuals seeking to determine whether this system of records contains information about themselves should address written inquiries to the Privacy Act Officer, Defense Logistics Agency, ATTN: CAAR, 8725 John J. Kingman Road, Suite 2533, Fort Belvoir, VA 22060-6221, or the Privacy Act Officer of the particular DLA PLFA involved. Official mailing addresses are published as an appendix to DLA's compilation of systems of records notices.

RECORD ACCESS PROCEDURES:

Individuals seeking access to information about themselves contained in this system of records should address written inquiries to the Privacy Act Officer, Defense Logistics Agency, ATTN: CAAR, 8725 John J. Kingman Road, Suite 2533, Fort Belvoir, VA 22060-6221, or the Privacy Act Officer of the particular DLA PLFA involved. Official mailing addresses are published as an appendix to DLA's compilation of systems of records notices.

CONTESTING RECORD PROCEDURES:

The DLA rules for accessing records, for contesting contents and appealing initial agency determinations are contained in DLA Regulation 5400.21, 32 CFR part 323, or may be obtained from the Privacy Act Officer, Headquarters, Defense Logistics Agency, ATTN: CAAR, 8725 John J. Kingman Road, Suite 2533, Fort Belvoir, VA 22060-6221.

RECORD SOURCE CATEGORIES:

Record subject.

EXEMPTIONS CLAIMED FOR THE SYSTEM:

None.

[FR Doc. 00-26257 Filed 10-12-00; 8:45 am]

BILLING CODE 5001-10-P